DEPARTMENT OF ENERGY

Federal Energy Regulatory Commission

Notice of Application for Amendment of License and Soliciting Comments, Motions to Intervene, and Protests

September 25, 2001.

a. Application Type: Application to Amend License for the Power Creek Hydroelectric Project.

b. Project No: 11243-037.

c. Date Filed: September 7, 2001.

d. Applicant: Cordova Electric Cooperative.

e. Name of Project: Power Creek Hydroelectric Project.

f. Location: The project is located on Power Creek in the town of Cordova, Southeast Alaska. The project is entirely on Eyak Native Corporation Lands, adjacent to the Chugach National Forest.

g. Filed Pursuant to: Federal Power Act, 16 U.S.C. 791(a)-825(r).

h. Applicant Contact: Kenneth J. Gates, Cordova Electric Cooperative, P.O. Box 20, Cordova, AK, 99674-0020. Tel: (907) 424-5555.

i. FERC Contact: Any questions on this notice should be addressed to Mr. Vedula Sarma at (202) 219-3273 or by e-mail at vedula.sarma@ferc.fed.us.

j. Deadline for filing comments and/or motions: (October 25, 2001).

All documents (original and eight copies) should be filed with David P. Boergers, Secretary, Federal Energy Regulatory Commission, 888 First Street, NE, Washington, DC 10416. Comments, protests and interventions may be filed electronically via the Internet in lieu of paper. See, 18 CFR 385.2001(a)(1)(iii) and the instructions on the Commission's web site under the “e-Filing” link.

Please include the project number (11243-037) on any comments or motions filed.

k. Description of Filing: The licensee is proposing re-route about 250 feet of the project pipeline in the area of the penstock bridge. The re-route would consist of burying the penstock under Power Creek where it crosses the creek, instead of running over on the bridge as presently constructed. The proposed action would protect the penstock from any avalanche damage. Burying the penstock would provide economic and environmental benefits by eliminating the risk of pipe line rupture and consequent water quality impact , and power outages.

l. Locations of the Application: A copy of the application is available for inspection and reproduction at the Commission's Public Reference Room, located at 888 First Street, NE, Room 2A, Washington, DC 20426, or by calling (202) 208-1371. This filing may also be viewed on the web at http://www.ferc.gov using the “RIMS” link, select “Docket#” and follow the instructions (call 202-208-2222 for assistance).

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, § .211, § .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-24444 Filed 9-28-01; 8:45 am]

BILLING CODE 6717-01-P